DEPARTMENT OF COMMERCE

National Oceanic and Atmospheric Administration

RIN 0648-XF741

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee to consider actions affecting New England fisheries in the exclusive economic zone (EEZ). Recommendations from this group will be brought to the full Council for formal consideration and action, if appropriate.

DATES: This meeting will be held on Thursday, October 26, 2017 at 9:30 a.m.

ADDRESSES: The meeting will be held at the Hilton Garden Inn Logan Airport, 100 Boardman Street, Boston, MA 02128; phone: (617) 567-6789.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scallop Committee will review Framework (FW) 29 alternatives and analyses. The primary focus of this meeting will be to provide input on the range of specification alternatives. FW 29 will set specifications including ABC/ACLs, days at sea, access area allocations, total allowable catch for the Northern Gulf of Maine (NGOM) management area, targets for General Category incidental catch and set-asides for the observer and research programs for fishing year 2018 and default specifications for fishing year 2019. Management measures in FW 29 include: (1) Flatfish accountability measures; (2) NGOM Management measures; (3) Measures to access area boundaries consistent with potential changes to habitat and groundfish mortality closed areas. They will also make recommendations on 2018 scallop work priorities. The PDT and AP will discuss scallop related issues under consideration in groundfish FW 57. Other business may be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. Consistent with 16 U.S.C. 1852, a copy of the recording is available upon request.

Authority: 16 U.S.C. 1801 et seq.

Dated: October 6, 2017.
Jeffrey N. Lonergan,
Acting Deputy Director, Office of Sustainable Fisheries, National Marine Fisheries Service.

[FR Doc. 2017-22060 Filed 10-11-17; 8:45 am]

BILLING CODE 3510-22-P